DEPARTMENT OF DEFENSE

Office of the Secretary

Notice; Meeting of the Independent Review Panel To Study the Relationships Between Military Department General Counsels and Judge Advocates General—Open Meeting

AGENCY: Department of Defense.

SUMMARY: Pursuant to the Federal Advisory Committee Act (FACA), Public Law 96-463, notice is hereby given that the Independent Review Panel to Study the Relationships between Military Department General Counsels and Judge Advocates General will hold an open meeting at the Hilton Crystal City, 2399 Jefferson Davis Highway, Arlington, Virginia 22202, on June 15-16, 2005, from 8:30 a.m. to 11:30 a.m. and 1 p.m. to 4 p.m.

Purpose: The Panel will meet on June 15-16, 2005, from 8:30 a.m. to 11:30 a.m. and 1 p.m. to 4 p.m., in order to hear testimony of current and former senior Defense Department officials and the public concerning the relationships between the legal elements of their respective Military Departments. These sessions will be open to the public, subject to the availability of space. In keeping with the spirit of FACA, the Panel welcomes written comments concerning its work from the public at any time. Interested citizens are encouraged to attend the sessions.

DATES: June 15-16, 2005: 8:30 a.m.-11:30 a.m., and 1 p.m.-4 p.m.

Location: Hilton Crystal City, 2399 Jefferson Davis Highway, Arlington, Virginia 22202.

FOR FURTHER INFORMATION CONTACT: Any member of the public wishing further information concerning this meeting or wishing to submit written comments may contact: Mr. James R. Schwenk, Designated Federal Official, Department of Defense Office of the General Counsel, 1600 Defense Pentagon, Arlington, Virginia 20301-1600, Telephone: (703) 697-9343, Fax: (703) 693-7616, schwenkj@dodgc.osd.mil.

Interested persons may submit a written statement for consideration by the Panel at any time prior to June 11, 2005. Persons desiring to make an oral presentation or submit a written statement to the Task Force must notify the point of contact listed above no later than 5 p.m., June 10, 2005. The Panel will hear oral presentations by members of the public on June 16, 2005, from 8:30 until 11:30 a.m. and from 1 p.m. until 4 p.m. The number of presentations made will depend on the number of requests received from members of the public, and oral presentation will be limited based upon the number of presentations from the public. Each person desiring to make an oral presentation must provide the above-listed point of contact with one (1) written copy of the presentation by 5 p.m., June 10, 2005.

Dated: May 26, 2005.
Jeannette Owings-Ballard,
OSD Federal Register Liaison Officer, Department of Defense.

[FR Doc. 05-10872 Filed 5-26-05; 1:12 pm]

BILLING CODE 5001-06-P